DEPARTMENT OF DEFENSE

Office of the Secretary

32 CFR Part 215

[Docket ID: DOD-2017-OS-0056]

RIN 0790-AK07

Employment of Military Resources in the Event of Civil Disturbances

AGENCY: Under Secretary of Defense for Policy, DoD.

ACTION: Final rule.

SUMMARY: This final rule removes the Department of Defense (DoD) regulation regarding employment of military resources in the event of civil disturbances. The part contains uniform DoD policies, assigns responsibilities, and furnishes general guidance for utilizing DoD military and civilian personnel, facilities, equipment, or supplies in support of civil authorities during civil disturbances within the United States. This part is outdated and unnecessary; therefore, it may be removed from the CFR.

DATES: This rule is effective on April 17, 2018.

FOR FURTHER INFORMATION CONTACT: James (Coach) Ross at 571-256-8325.

SUPPLEMENTARY INFORMATION: It has been determined that publication of this CFR part removal for public comment is impracticable, unnecessary, and contrary to public interest since it is based on removing DoD internal policies and procedures that are publicly available on the Department's issuance website.

DoD internal guidance regarding employment of military resources in the event of civil disturbances will continue to be published in DoD Instruction 3025.21, “Defense Support of Civilian Law Enforcement Agencies,” available at http://www.esd.whs.mil/Portals/54/Documents/DD/issuances/dodi/302521p.pdf.

This rule is not significant under Executive Order (E.O.) 12866, “Regulatory Planning and Review,” therefore, E.O. 13771, “Reducing Regulation and Controlling Regulatory Costs” does not apply.

List of Subjects in 32 CFR Part 215

Armed forces, Civil disorders, Emergency powers, Intergovernmental relations, Law enforcement, Reporting and recordkeeping requirements, Security measures.

PART 215—[REMOVED]

Accordingly, by the authority of 5 U.S.C. 301, 32 CFR part 215 is removed.

Dated: April 12, 2018.
Shelly E. Finke,
Alternate OSD Federal Register Liaison Officer, Department of Defense.

[FR Doc. 2018-08004 Filed 4-16-18; 8:45 am]

BILLING CODE 5001-06-P